DEPARTMENT OF ENERGY

Federal Energy Regulatory Commission

[Project No. 2503-192]

Duke Energy Carolinas, LLC; Notice of Intent To Prepare an Environmental Assessment

On January 29, 2025, Duke Energy Carolinas, LLC (licensee), filed an application pursuant to Article 409 of the project license, requesting Commission approval to grant Pickens Regional Joint Water System an easement to construct, operate, and maintain a raw water intake facility on Lake Keowee. The project is located on the Toxaway, Keowee, and Little Rivers in Transylvania County, North Carolina, and Oconee and Pickens counties, South Carolina.

The licensee proposes to grant Pickens Regional Joint Water System a 0.37 acre easement on Lake Keowee, to construct, operate, and maintain a raw water intake facility with a gross maximum instantaneous water withdrawal rate of 16.5 million gallons per day (MGD) and a gross maximum average annual withdrawal rate of 12 MGD. Proposed construction within the project boundary includes screened intake pipes, shoreline stabilization, and a floating dock. The Commission issued a notice of application for filing, soliciting comments, motions to intervene, and protests for this easement request on April 30, 2025. The public comment period closed on May 30, 2025.

This notice identifies Commission staff's intention to prepare an environmental assessment (EA) under the National Environmental Policy Act (42 U.S.C. 4321 et seq.) for the project.¹ Commission staff plans to issue an EA by December 15, 2025. Revisions to the schedule may be made as appropriate. The EA will be issued for a 30-day comment period. All comments filed on the EA will be reviewed by staff and considered in the Commission's final decision on the proceeding.

¹ The unique identification number for documents relating to this environmental review is EAXX-019-20-000-1753198064.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Robert Ballantine at (202) 502-6389 or robert.ballantine@ferc.gov.

Dated: July 24, 2025.
Carlos D. Clay,
Deputy Secretary.

[FR Doc. 2025-14303 Filed 7-28-25; 8:45 am]

BILLING CODE 6717-01-P